NATIONAL AERONAUTICS AND SPACE ADMINISTRATION

[Notice: (19-079)]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. This Committee reports to the Director, Planetary Science Division, Science Mission Directorate, NASA Headquarters. The meeting will be held for the purpose of soliciting, from the scientific community and other persons, scientific and technical information relevant to program planning.

DATES: Friday, December 6, 2019, 1:00 p.m.-5:30 p.m., Eastern Time.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be available telephonically and by WebEx. You must use a touch-tone phone to participate in this meeting. Any interested person may dial the USA toll free conference call number 1-800-779-9966 or toll number 1-517-645-6359, passcode 5255996, to participate in this meeting by telephone. The WebEx link is https://nasaenterprise.webex.com/, the meeting number is 906 287 000 and the password is PAC@Dec6.

The agenda for the meeting includes the following topics:

—Planetary Science Division Update

—Reports from Specific Research & Analysis Programs

The agenda will be posted on the Planetary Advisory Committee web page: https://science.nasa.gov/researchers/nac/science-advisory-committees/pac.

It is imperative that the meeting be held on this date to accommodate the scheduling priorities of the key participants.

Patricia Rausch,
Advisory Committee Management Officer, National Aeronautics and Space Administration.

[FR Doc. 2019-24528 Filed 11-8-19; 8:45 am]

BILLING CODE 7510-13-P